DEPARTMENT OF THE INTERIOR

Bureau of Land Management

[MT-924-1430-ET; SDM 87066]

Cancellation of Proposed Withdrawal; South Dakota

AGENCY: Bureau of Land Management, Interior.

ACTION: Notice.

SUMMARY: This notice cancels a withdrawal application affecting .25 acre of National Forest System land for the National Park Service for construction of temporary quarters for summer seasonal employees. The segregative effect of the application was previously terminated and the land was opened to surface entry and mining, subject to other segregations of record. The land has been and remains open to mineral leasing.

EFFECTIVE DATE: April 4, 2003.

FOR FURTHER INFORMATION CONTACT: Sandra Ward, Bureau of Land Management, Montana State Office, PO Box 36800, Billings, Montana 59107, 406-896-5052.

SUPPLEMENTARY INFORMATION: The Notice of Proposed Withdrawal was published in the Federal Register March 20, 1998 (63 FR 13687). This action will terminate the proposed withdrawal. The land was described as follows:

Black Hills Meridian

T. 3 S., R. 4 E.,

Sec. 23, portion of the S½ of lot 19.

The area described contains .25 acre in Custer County.

The segregative effect associated with the application terminated March 19, 2000, in accordance with the notice published as FR Doc. 00-3267 in the Federal Register (65 FR 7057-8) dated February 11, 2000.

Dated: January 21, 2003.
Howard A. Lemm,
Acting Deputy State Director, Division of Resources.

[FR Doc. 03-8170 Filed 4-3-03; 8:45 am]

BILLING CODE 4310-$$-P